DEPARTMENT OF THE INTERIOR

Bureau of Reclamation

[DES 05-06]

Humboldt Project Conveyance, Pershing, Churchill and Lander Counties, Nevada

AGENCY: Bureau of Reclamation, Interior.

ACTION: Notice of Availability of the Draft Environmental Impact Statement (DEIS) and notice of public hearing.

SUMMARY: Pursuant to the National Environmental Policy Act (NEPA) of 1969, as amended, the Bureau of Reclamation (Reclamation) has prepared a DEIS to evaluate the potential effects of conveying title of the Humboldt Project (Project) and associated lands to the Pershing County Water Conservation District (PCWCD), State of Nevada, Lander County and Pershing County. The action is needed to comply with Title VIII of Public Law 107-282 which directs Reclamation to transfer title of the Project to the entities listed above.

DATES: Submit written comments on the Draft EIS on or before March 28, 2005, at the address provided below.

Public hearings will be held to accept oral and written comments on the DEIS:

• Monday, March 14, 2005, 12:30 p.m. to 2:30 p.m., Lovelock, Nevada;

• Monday, March 14, 2005, 7 p.m. to 9 p.m., Battle Mountain, Nevada;

• Tuesday, March 15, 2005 6:30 p.m. to 8:30 p.m., Reno, Nevada.

ADDRESSES: The public hearings will be held at the following locations:

• Lovelock, Nevada—Lovelock Community Center, 820 Sixth Street;

• Battle Mountain, Nevada—Battle Mountain Civic Center, 625 South Broad Street;

• Reno, Nevada—Washoe County Dept. of Water Resources, 4930 Energy Way.

Comments should be sent to Caryn Huntt DeCarlo, Bureau of Reclamation, Lahontan Basin Area Office, 705 N Plaza, Room 320, Carson City, NV 89701; or faxed to (775) 882-7592; or e-mail to chunttdecarlo@mp.usbr.gov.

A copy of the document may be obtained by writing to Greystone Environmental Consultants, 401 West Baseline Road, Ste. 204, Tempe, AZ 85283, or by calling (480) 775-6330. The DEIS is accessible from the following Web site: http://www.usbr.gov/mp/nepa/nepa_projdetails.cfm?Project_ID=550.

FOR FURTHER INFORMATION CONTACT: Caryn Huntt DeCarlo, Bureau of Reclamation, Lahontan Basin Area Office, 705 N Plaza, Room 320, Carson City, NV 89701, telephone (775) 884-8352.

SUPPLEMENTARY INFORMATION: The Project is located along the Humboldt River in northwestern Nevada. Reclamation began Project construction in 1935 and in 1941 the first water was delivered to agricultural lands in the Lovelock Valley from storage in Rye Patch Reservoir. PCWCD assumed operation of the Project in 1941. PCWCD has had several Project repayment contracts with Reclamation that have all been repaid. Project features include Battle Mountain Community Pasture, Rye Patch Dam and Reservoir, and the Humboldt Sink. Battle Mountain Community Pasture, located near Battle Mountain, is approximately 30,000 acres and is managed for grazing by the PCWCD under a lease agreement with Reclamation. Rye Patch Reservoir is located 26 miles upstream from Lovelock, is 21 miles in length, and has a capacity of 190,000 acre-feet. The State of Nevada manages the recreation at the reservoir under a management agreement with Reclamation and the PCWCD. The Humboldt Sink is also part of the Project and is managed by the State of Nevada under a management agreement with Reclamation.

Copies of the DEIS are available for public inspection and review at the following locations:

• Bureau of Reclamation, Lahontan Basin Area Office, 705 N Plaza, Room 320, Carson City, Nevada, (775) 884-8352.

• Pershing County Water Conservation District Office, Lovelock, Nevada, (775) 273-2293.

• Nevada Division of State Parks, 1300 South Curry Street, Carson City, Nevada (775) 687-4384.

• Nevada Division of Wildlife, 1100 Valley Road, Reno, Nevada, (775) 688-1500.

• Lander County Court House, 315 South Humboldt, Battle Mountain, Nevada, (775) 635-5195.

• Pershing County Court House, 400 Main Street, Lovelock, Nevada, (775) 273-2613.

• Humboldt County Court House, 25 West 5th Street, Winnemucca, Nevada, (775) 623-6369.

Libraries:

• Reno Public Library, 301 South Center Street, Reno, Nevada, (775) 328-2586.

• Pershing County Library, 1125 Central Avenue, Lovelock, Nevada, (775) 273-2216.

• Humboldt County Library, 85 East 5th Street, Winnemucca, Nevada, (775) 623-6388.

• Battle Mountain County Library, 625 South Broad Street, Battle Mountain, Nevada, (775) 635-2534.

• Elko County Library, 720 Court Street, Elko, Nevada, (775) 738-3066.

Hearing Process Information. The purpose of the public hearing is to provide the public with an opportunity to comment on environmental issues addressed in the DEIS. Written comments will also be accepted. Persons needing reasonable accommodations in order to attend and participate in the public meeting should contact Sandra Fairchild by telephone at (480) 775-6330; or fax (480) 775-6253 for accessibility accommodations, including sign language interpreters or other auxiliary aids. Requests should be made within 10 business days of the hearing, to allow sufficient time to arrange for accommodation. Requests to make oral comments at the public hearings may be made at each hearing. Comments will be recorded by a court reporter. Speakers will be called in the order of their requests. In the interest of available time, each speaker will be asked to limit oral comments to 5 minutes. Longer comments should be summarized at the public hearing and submitted in writing either at the public hearing or identified as hearing comments and mailed to be received by Caryn Huntt DeCarlo no later than close of business on April 1, 2005.

Our practice is to make comments, including names and home addresses of respondents, available for public review. Individual respondents may request that we withhold their home address from public disclosure, which we will honor to the extent allowable by law. There may also be circumstances in which we would withhold a respondent's identity from public disclosure, as allowable by law. If you wish us to withhold your name and/or address, you must state this prominently at the beginning of your comment. We will make all submissions from organizations or businesses, and from individuals identifying themselves as representatives or officials of organizations or businesses, available for public disclosure in their entirety.

Dated: January 18, 2005.
Kirk C. Rodgers,
Regional Director, Mid-Pacific Region.

[FR Doc. 05-1636 Filed 1-27-05; 8:45 am]

BILLING CODE 4310-MN-P